DEPARTMENT OF THE INTERIOR

Bureau of Land Management

[WY-920-1320-EL, WYW172693]

Notice of Invitation for Coal Exploration License Application, WY

AGENCY: Bureau of Land Management, Interior.

ACTION: Notice of invitation for Coal Exploration License Application, Cordero Mining Company, WYW172693, WY.

SUMMARY: Pursuant to section 2(b) of the Mineral Leasing Act of 1920, as amended by section 4 of the Federal Coal Leasing Amendments Act of 1976, 90 Stat. 1083, 30 U.S.C. 201 (b), and to the regulations adopted as 43 CFR part 3410, all interested qualified parties, as provided in 43 CFR 3472.1, are hereby invited to participate with Cordero Mining Company on a pro rata cost sharing basis in its program for the exploration of coal deposits owned by the United States of America in the following-described lands in Campbell County, WY:

T. 46 N., R. 71 W., 6th P.M., Wyoming

Sec. 4: Lot 8, 9, 16, 17;

Sec. 5: Lots 5-20;

Sec. 8: Lots 1-16;

Sec. 9: Lots 6-8;

Sec. 10: Lots 7-10;

Sec. 11: Lots 13-16;

Sec. 14: Lots 1-16;

Sec. 15: Lots 1-16;

Sec. 17: Lots 1-15;

T. 47 N., R. 71 W., 6th P.M., Wyoming

Sec. 7: Lots 6-11, 14-19;

Sec. 17: Lots 1-15, SW¼NW¼;

Sec. 18: Lots 5-20;

Sec. 19: Lots 5-20;

Sec. 20: Lots 1-16;

Sec. 21: Lots 4, 5, 12, 13;

Sec. 28: Lots 4, 5, 12, 13;

Sec. 29: Lots 1-16;

Sec. 30: Lots 5-20;

Sec. 31: Lots 5-19, SE¼SE¼;

Sec. 32: Lots 1-16;

Sec. 33: Lots 4, 5, 12, 13;

T. 47 N., R. 72 W., 6th P.M., Wyoming

Sec. 12: Lots 1-16;

Sec. 13: Lots 1, 2, 7-10, 15, 16;

Sec. 24: Lots 1, 2, 7-10, 15, 16.

Containing 11,216.65 acres, more or less.

DATES: Written Notice of Intent to Participate in Exploration License WYW172693 should be addressed to the attention of both of the following persons and must be received by them 30 days after publication of this Notice of Invitation in the Federal Register.

ADDRESSES: Copies of the exploration plan are available for review during normal business hours in the following offices (serialized under number WYW172693): Bureau of Land Management, Wyoming State Office, 5353 Yellowstone Road, P.O. Box 1828, Cheyenne, WY 82003; and, Bureau of Land Management, Casper Field Office, 2987 Prospector Drive, Casper, WY 82604. The written notice should be sent to the following addresses: Cordero Mining Company, c/o Kennecott Energy and Coal Company, Attn: Tom Suchomel, Caller Box 3009, Gillette, WY 82717, and the Bureau of Land Management, Wyoming State Office, Branch of Solid Minerals, Attn: Mavis Love, PO Box 1828, Cheyenne, WY 82003.

SUPPLEMENTARY INFORMATION: All of the coal in the above-described land consists of unleased Federal coal within the Powder River Basin Known Coal Leasing Area. The purpose of the exploration program is to obtain supplemental geotechnical data from previous drilling programs and to assess the reserves contained in a potential lease. The proposed exploration program is fully described and will be conducted pursuant to an exploration plan to be approved by the Bureau of Land Management.

This notice of invitation will be published in “The News-Record” of Gillette, WY, once each week for two consecutive weeks beginning the week of May 29, 2006, and in the Federal Register. Any party electing to participate in this exploration program must send written notice to both the Bureau of Land Management and Cordero Mining Company, as provided in the ADDRESSES section above, no later than thirty days after publication of this invitation in the Federal Register.

The foregoing is published in the Federal Register pursuant to 43 CFR 3410.2-1(c)(1).

Dated: April 12, 2006.
Michael Madrid,
Acting Deputy State Director, Minerals and Lands.

[FR Doc. E6-8260 Filed 5-26-06; 8:45 am]

BILLING CODE 4310-22-P